DEPARTMENT OF THE TREASURY

Agency Information Collection Activities; Submission for OMB Review; Comment Request; Multiple Bureau of Fiscal Service Information Collection Requests

AGENCY: Departmental Offices, U.S. Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before March 31, 2025 to be assured of consideration.

ADDRESSES: Written comments and recommendations for the proposed information collection should be sent within 30 days of publication of this notice to www.reginfo.gov/public/doPRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Bureau of the Fiscal Service (BFS)

1. Title: Annual Letters—Certificates of Authority (A) and Admitted Reinsurer (B).

OMB Control Number: 1530-0014.

Abstract: The information is collected so that Treasury can make the appropriate determinations as to the renewal of the Certificates of Authority of currently certified companies and the renewal of companies currently recognized by Treasury as Admitted Reinsurers. Included in the package is the Annual Letter to Executive Officers of Surety Companies Reporting to the Treasury (A) and the Annual Letter to Executive Officers of Companies Recognized by the Treasury as Admitted Reinsurers of Surety Companies Doing Business with the United States Government (B). The Secretary of the Treasury has been given authority pursuant to 31 U.S.C. 9304-9308 to certify insurance companies wishing to write or reinsure federal surety bonds. The authority has been further codified at 31 CFR 223.9 which specifies guidelines applicable to companies seeking certification while § 223.12 specifies requirements applicable to companies seeking recognition as an Admitted Reinsurer.

Current Actions: Extension of a currently approved collection.

Type of Review: Regular.

Affected Public: Business or other for-profit.

Estimated Number of Respondents: 341.

Estimated Time per Respondent: 18.75 hours.

Estimated Total Annual Burden Hours: 6,394.

2. Title: Request for Payment of Federal Benefit by Check, EFT Waiver Form.

OMB Control Number: 1530-0019.

Form Number: FS Form 1201W, FS Form 1201W-DFAS, FS Form 1201W (SP).

Abstract:31 CFR part 208 requires that all Federal non-tax payments be made by electronic funds transfer (EFT). The forms are used to collect information from individuals requesting a waiver from the EFT requirement because of a mental impairment, living in a remote geographic location that does not support the use of EFT, or persons born on or before May 1, 1921. These individuals may continue to receive payment by check. However, 31 CFR part 208 requires individuals requesting one of these waiver conditions to submit a written justification that is notarized by a notary public. In order to assist individuals with this submission, Treasury has prepared waiver forms in order to collect all necessary information.

Current Actions: Extension of a currently approved collection.

Type of Review: Regular.

Affected Public: Individuals or Households.

Estimated Number of Respondents: 3,250.

Estimated Time per Respondent: 20 minutes.

Estimated Total Annual Burden Hours: 1,083.

3. Title: Claim For Lost, Stolen, or Destroyed U.S. Savings Bonds and Supplemental Statement for U.S. Securities.

OMB Control Number: 1530-0021.

Form Number: FS Form 1048 and FS Form 2243.

Abstract: The information is requested to issue owners substitute securities or payment in lieu of lost, stolen, or destroyed securities.

Current Actions: Extension of a currently approved collection.

Type of Review: Regular.

Affected Public: Individuals or Households.

Estimated Number of Respondents: 72,000.

Estimated Time per Respondent: 20 minutes for FS Form 1048, and 5 minutes for FS Form 2243.

Estimated Total Annual Burden Hours: 20,352.

4. Title: Request by Fiduciary for Distribution of United States Treasury Securities.

OMB Number: 1530-0035.

Form Number: FS Form 1455.

Abstract: One or more fiduciaries (individual or corporate) must use this form to establish entitlement and request distribution of United States Treasury Securities and/or related payments to the person lawfully entitled due to termination of a trust, distribution of an estate, attainment of majority, restoration to competency, or other reason.

Current Actions: Extension of a currently approved collection.

Type of Review: Regular.

Affected Public: Individuals or Households.

Estimated Number of Respondents: 9,500.

Estimated Time per Respondent: 30 minutes.

Estimated Total Annual Burden Hours: 4,750.

(Authority: 44 U.S.C. 3501 et seq.)

Melody Braswell,
Treasury PRA Clearance Officer.

[FR Doc. 2025-03303 Filed 2-27-25; 8:45 am]

BILLING CODE 4810-AS-P